DEPARTMENT OF ENERGY

Federal Energy Regulatory Commission

Notice of Intent To File an Application for a New License

December 18, 2001.

a. Type of filing: Notice of Intent to File an Application for a New License.

b. Project No.: 618.

c. Date filed: November 19, 2001.

d. Submitted by: Alabama Power Company—current licensee.

e. Name of project: Jordan Hydroelectric Project.

f. Location: On the Coosa River in Chilton, Coosa, and Elmore Counties, Alabama. The project does not occupy federal lands.

g. Filed pursuant to: Section 15 of the Federal Power Act.

h. Licensee contact: Jim Crew, JFCREW@southernco,com, (205) 257-4265, or Barry Lovett, BKLOVETT@southernco.com, (205) 257-1268.

i. FERC contact: Ron McKitrick, ronald.mckitrick@ferc.fed.us, (770) 452-3778.

j. Effective date of current license: October 1, 1980.

k. Expiration date of current license: July 31, 2007.

l. Description of the project: The project consists of the following existing facilities: (1) The Jordan Dam consisting of: (a) A 75-foot-long concrete bulkhead; (b) a 246-foot-long concrete intake structure; (c) a 1,330-foot-long concrete spillway section equipped with eighteen 34-foot-wide by 8-foot-high radial gates and seventeen 30-foot-wide by 19-foot-high vertical lift gates; (d) a 177-foot-long concrete bulkhead; (2) the 5,880-acre Jordan Lake with a normal water surface elevation of 252 feet msl; (3) a powerhouse containing four generating units with a total installed capacity of 100 MW; (4) seven 115-kV transmission lines; and (5) other appurtenances.

m. Each application for a new license and any competing license applications must be filed with the Commission at least 24 months prior to the expiration of the existing license. All applications for license for this project must be filed by July 31, 2005.

Linwood A. Watson, Jr.,
Acting Secretary.

[FR Doc. 01-31594 Filed 12-21-01; 8:45 am]

BILLING CODE 6717-01-P